NATIONAL SCIENCE FOUNDATION

Special Emphasis Panel; Notice of Meeting

In accordance with the Federal Advisory Committee Act (Pub. L. 92-463, as amended), the National Science Foundation announces the following meeting:

Name: Special Emphasis Panel in Physics (1208).

Date/Time: March 21-22, 2001 from 8 a.m. to 5 p.m.; March 23 from 8 a.m. to 1 p.m.

Place: National Superconducting Cyclotron Laboratory at Michigan State University.

Type of Meeting: Closed.

Contact Person: Dr. Bradley D. Keister, Program Director for Nuclear Physics, Room 1015N, National Science Foundation, 4201 Wilson Blvd., Arlington, VA 22230, Telephone: 703-292-7377.

Purpose of Meeting: To conduct a Scientific Review and an Operations Review of the Coupled Cyclotro Facility.

Agenda: To hear presentations and write recommendations concerning the Coupled Cyclotron Facility.

Reason for Closing: The proposals being reviewed include information of a proprietary or confidential nature, including technical information; information or personnel and proprietary data for present and future subcontracts. These matters are exempt under 5 U.S.C. 552b(c), (4) and (6) of the Government in the Sunshine Act.

Dated: February 13, 2001.
Susanne Bolton,
Committee Management Officer.

[FR Doc. 01-3979 Filed 2-15-01; 8:45 am]

BILLING CODE 7555-01-M